DEPARTMENT OF ENERGY

Federal Energy Regulatory Commission

Combined Notice of Filings #1

Take notice that the Commission received the following electric rate filings:

Docket Numbers: ER20-838-002.

Applicants: Duke Energy Ohio, Inc.

Description: Tariff Amendment: DEO-AEP Amendment to Amended IA (PJM SA No. 1491) Request for Extension to be effective 12/21/2019.

Filed Date: 5/6/20.

Accession Number: 20200506-5054

Comments Due: 5 p.m. ET 5/27/20.

Docket Numbers: ER20-1498-000.

Applicants: Krayn Wind LLC.

Description: Supplement to April 3, 2020 Notice of Cancellation of Market-Based Rate Tariff (Transmittal Letter) of Krayn Wind, LLC.

Filed Date: 5/5/20.

Accession Number: 20200505-5216

Comments Due: 5 p.m. ET 5/26/20.

Docket Numbers: ER20-1769-000

Applicants: Chicot Solar, LLC.

Description: Baseline eTariff Filing: Chicot Solar, LLC Application for MBR Authority to be effective 7/5/2020.

Filed Date: 5/5/20.

Accession Number: 20200505-5189.

Comments Due: 5 p.m. ET 5/26/20.

Docket Numbers: ER20-1770-000.

Applicants: Carolina Power Partners, LLC.

Description: § 205(d) Rate Filing: Carolina Power Partners, LLC—Notice of Succession due to Name Change to be effective 4/6/2020.

Filed Date: 5/5/20.

Accession Number: 20200505-5192.

Comments Due: 5 p.m. ET 5/26/20.

Docket Numbers: ER20-1771-000.

Applicants: Midcontinent Independent System Operator, Inc.

Description: § 205(d) Rate Filing: 2020-05-06_SA 3487 ATC-Badger State Solar GIA (J818) to be effective 4/22/2020.

Filed Date: 5/6/20.

Accession Number: 20200506-5022.

Comments Due: 5 p.m. ET 5/27/20.

Docket Numbers: ER20-1772-000.

Applicants: Midcontinent Independent System Operator, Inc., Ameren Illinois Company.

Description: § 205(d) Rate Filing: 2020-05-06_SA 3028 Ameren IL-Prairie Power Project#27 Turris to be effective 7/6/2020.

Filed Date: 5/6/20.

Accession Number: 20200506-5025.

Comments Due: 5 p.m. ET 5/27/20.

Docket Numbers: ER20-1773-000.

Applicants: Midcontinent Independent System Operator, Inc.

Description: § 205(d) Rate Filing: 2020-05-06_SA 3323 Prairie State Solar-Ameren Illinois 1st Rev GIA (J808) to be effective 4/21/2020.

Filed Date: 5/6/20.

Accession Number: 20200506-5038.

Comments Due: 5 p.m. ET 5/27/20.

Docket Numbers: ER20-1774-000.

Applicants: Midcontinent Independent System Operator, Inc.

Description: § 205(d) Rate Filing: 2020-05-06_SA 2928 ITCTransmission-Pegaus Wind 3rd Rev GIA (J301 J701) to be effective 4/21/2020.

Filed Date: 5/6/20.

Accession Number: 20200506-5045.

Comments Due: 5 p.m. ET 5/27/20.

Docket Numbers: ER20-1775-000.

Applicants: Tri-State Generation and Transmission Association, Inc.

Description: § 205(d) Rate Filing: Rate Schedule FERC No. 281 between Tri-State and United Power to be effective 5/7/2020.

Filed Date: 5/6/20.

Accession Number: 20200506-5052.

Comments Due: 5 p.m. ET 5/27/20.

Docket Numbers: ER20-1776-000.

Applicants: Yards Creek Energy, LLC.

Description: § 205(d) Rate Filing: Reactive Service Rate Schedule to be effective 12/31/9998.

Filed Date: 5/6/20.

Accession Number: 20200506-5193.

Comments Due: 5 p.m. ET 5/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2020.
Nathaniel J. Davis, Sr.,
Deputy Secretary.

[FR Doc. 2020-10118 Filed 5-11-20; 8:45 am]

BILLING CODE 6717-01-P